DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC). The meeting will be held on October 4, in Phoenix, Arizona. The RAC meeting will begin at 9 a.m. and will conclude at approximately 4 p.m. The agenda items to be covered include the review of the March 31, May 11, and August 4, 2000, meeting minutes; BLM State Director's Update on legislation, regulations and statewide planning efforts; New RAC Member Introductions; Wilderness Area Access Regulations; Update on Undocumented Immigrants and the Impacts to the San Pedro Riparian National Conservation Area; RAC Discussion of Rangeland Resource Teams' Progress; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on October 3, 2000, for any interested publics who wish to address the Council.

FOR FURTHER INFORMATION CONTACT: Deborah Stevens, Bureau of Land Management, Arizona State Office, 222 North Central Avenue, Phoenix, Arizona 85004-2203, (602) 417-9215.

Gary D. Bauer,
Acting Arizona State Director.

[FR Doc. 00-22904 Filed 9-6-00; 8:45 am]

BILLING CODE 4310-32-M